NUCLEAR REGULATORY COMMISSION

[Docket No. 50-346; License No. NPF-3]

Firstenergy Nuclear Operating Company, Davis-Besse Nuclear Power Station, Unit 1; Receipt of Request for Action Under 10 CFR 2.206

Notice is hereby given that by petition dated August 25, 2003, submitted by Greenpeace on behalf of the Nuclear Information & Resource Service and the Union of Concerned Scientists (collectively, the Petitioners), the U.S. Nuclear Regulatory Commission (NRC) has been requested to take enforcement actions against FirstEnergy Nuclear Operating Company (FirstEnergy), the licensee for Davis-Besse Nuclear Power Station in Oak Harbor, Ohio, and the NRC has also been requested to suspend the Davis-Besse license and prohibit plant restart until certain conditions have been met.

As bases for requesting the NRC to take enforcement actions against the licensee, the Petitioners state that FirstEnergy has failed to complete commitments related to the NRC's 50.54(f) design basis letter (issued on October 9, 1996), and refer to numerous design basis violations dating back to plant licensing. The petitioners request that the NRC suspend the Davis-Besse license and prohibit plant restart until all design basis deficiencies identified in response to the NRC's 50.54(f) design basis letter are adequately addressed, the plant probabilistic risk assessment (PRA) is updated to reflect design flaws, and no systems are in a “degraded but operable” condition.

The request is being treated pursuant to 10 CFR 2.206 of the Commission's regulations. The request has been referred to the Director of the NRC's Office of Nuclear Reactor Regulation (NRR). As provided by Section 2.206, appropriate action will be taken on this petition within a reasonable time.

A copy of the petition is available in the Agencywide Documents Access and Management System (ADAMS) for inspection at the Commission's Public Document Room (PDR), located at One White Flint North, 11555 Rockville Pike (first floor), Rockville, Maryland, and from the ADAMS Public Library component on the NRC's Web site, http://www.nrc.gov/reading-rm/adams.html (the Public Electronic Reading Room), using Accession No. ML032400435. Persons who do not have access to ADAMS or who encounter problems in accessing the documents located in ADAMS should contact the NRC's PDR reference staff by telephone at 1-800-397-4209 or 301-415-4737 or by e-mail to pdr@nrc.gov.

Dated at Rockville, Maryland, this 7th day of October, 2003.
For the Nuclear Regulatory Commission.
J.E. Dyer,
Director, Office of Nuclear Reactor Regulation.

[FR Doc. 03-25988 Filed 10-14-03; 8:45 am]

BILLING CODE 7590-01-P